DEPARTMENT OF DEFENSE

Office of the Secretary

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces the proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 19, 2002.

ADDRESSES: Written comments and recommendations on the proposed information collection should be sent to the Office of the Assistant Secretary of Defense for Health Affairs (OASD/HA), TRICARE Management Activity (TMA), Operations Directorate (OD), Dental Programs, ATTN: COL Mary C. Concilio, Skyline 5, Suite 810, 5111 Leesburg Pike, Falls Church, VA 22041.

FOR FURTHER INFORMATION CONTACT: To request more information on this proposed information collection or to obtain a copy of the proposal and associated collection instrument, please write to the above address, or call OASD/HA/TMA/OD/Dental Programs at 703-681-0064.

SUPPLEMENTARY INFORMATION: Title; Associated Form; OMB Number: DoD/Active Duty/Reserve Forces Dental Examination; Associated Form—DoD/Reserve Forces Dental Examination; OMB No. 0720-0022.

Needs and Uses: The information collection requirement is necessary to obtain and record the dental health status of members of the Armed Forces. This form enables civilian dentists to record the results of their examination findings and provide the information to the member's military organization. The military organizations are required by Department of Defense policy to track the dental health status of their members.

Affected Public: Business or other profit; Not-for-profit institutions.

Annual Burden Hours: 44,250.

Number of Respondents: 885,000.

Responses Per Respondent: 1.

Average Burden Per Response: 3 minutes.

Frequency: Annual.

Summary of Collection Information

Respondents are medical professionals who provide dental services to the general public. Members of the Armed Forces of the United States are the recipients of the dental examination. The Armed Forces Active and Reserve component members must maintain their dental health at a predetermined level to prevent dental problems while deployed to a military operation. Reserve component and CONUS remote Active component members usually receive dental care from civilian dentists; therefore, civilian dentists complete the form. Following a routine dental examination, the dentist reviews the categories listed on the form and selects the number corresponding to the condition that best describes the dental health of the patient. If dental problems can be identified, they are indicated on the form. Once the form is complete and the dentist signs it, the member forwards the form to the parent organization. The information on the form is incorporated into a database, and the form is maintained in the health record until no longer needed.

Dated: June 6, 2002.
Patricia L. Toppings,
Alternate OSD Federal Register Liaison Officer, Department of Defense.

[FR Doc. 02-15222 Filed 6-17-02; 8:45 am]

BILLING CODE 5001-08-M